DEPARTMENT OF ENERGY

Federal Energy Regulatory Commission

[Docket No. PF10-23-000]

Tennessee Gas Pipeline Company; Notice of Intent To Prepare an Environmental Assessment for the Planned Northeast Upgrade Project, Request for Comments on Environmental Issues, and Notice of Public Scoping Meetings

October 8, 2010.

The staff of the Federal Energy Regulatory Commission (FERC or Commission) will prepare an environmental assessment (EA) that will discuss the environmental impacts of the Northeast Upgrade Project involving construction and operation of facilities by Tennessee Gas Pipeline Company (TGP) in northeastern Pennsylvania northern New Jersey. This EA will be used by the Commission in its decision-making process to determine whether the project is in the public convenience and necessity.

This notice announces the opening of the scoping process the Commission will use to gather input from the public and interested agencies on the project. Your input will help the Commission staff determine what issues need to be evaluated in the EA. Please note that the scoping period will close on November 12, 2010.

Comments may be submitted in written form or verbally. Further details on how to submit written comments are provided in the Public Participation section of this notice. In lieu of or in addition to sending written comments, you are invited to attend the public scoping meetings listed below.

Date and Time | Location
Monday, November 1, 2010 7 p.m. EDT | Eleanor G. Hewitt Elementary School Gymnasium, 266 Sloatsburg Road, Ringwood, NJ 07456.
Wednesday, November 3, 2010 7 p.m. EDT | Delaware Valley High School Auditorium, 252 Routes 6 & 209, Milford, PA 18337.
Thursday, November 4, 2010 7 p.m. EDT | Wyalusing Valley Junior and Senior High School Auditorium, 11364 Wyalusing New Albany Road, Wyalusing, PA 18853.

This notice is being sent to the Commission's current environmental mailing list for this project. State and local government representatives are asked to notify their constituents of this planned project and encourage them to comment on their areas of concern.

If you are a landowner receiving this notice, you may be contacted by a pipeline company representative about the acquisition of an easement to construct, operate, and maintain the planned facilities. The company would seek to negotiate a mutually acceptable agreement. However, if the project is approved by the Commission, that approval conveys with it the right of eminent domain. Therefore, if easement negotiations fail to produce an agreement, the pipeline company could initiate condemnation proceedings where compensation would be determined in accordance with Federal or state law.

A fact sheet prepared by the FERC entitled “An Interstate Natural Gas Facility On My Land? What Do I Need To Know?” is available for viewing on the FERC Web site (http://www.ferc.gov). This fact sheet addresses a number of typically asked questions, including the use of eminent domain and how to participate in the Commission's proceedings.

Summary of the Planned Project

TGP has announced its intention to build approximately 37 miles of 30-inch-diameter natural gas pipeline in five loop ¹ segments and other facilities in New Jersey and Pennsylvania. The project would increase natural gas transmission capacity to the northeast region of the United States by about 636,000 dekatherms per day and would provide access to natural gas supplies in the Marcellus Shale supply area. The project would not, however, involve facilities necessary to produce natural gas from the Marcellus Shale. TGP has signed binding precedent agreements with two shippers for all of the project's additional firm transportation capacity.

¹ A pipeline loop is constructed parallel to an existing pipeline to increase capacity.

The Northeast Upgrade Project would consist of the following components:

1. Installation of five pipeline loop segments:

• Loop 317—Installation of 5.4 miles of 30-inch-diameter pipeline loop in Bradford County, Pennsylvania.

• Loop 319—Installation of 2.0 miles of 30-inch-diameter pipeline loop in Bradford County, Pennsylvania.

• Loop 321—Installation of 8.0 miles of 30-inch-diameter pipeline loop in Wayne and Pike Counties, Pennsylvania.

• Loop 323—Installation of 14.0 miles of 30-inch-diameter pipeline loop in Pike County, Pennsylvania and Sussex County, New Jersey.

• Loop 325—Installation of 7.7 miles of 30-inch-diameter pipeline loop in Passaic and Bergen Counties, New Jersey.

2. Modifications at four existing compressor stations:

• Compressor Station 319—An inlet gas filter-separator, a blowdown silencer, and a relief valve would be installed and unit piping would be modified at the existing compressor station in Wyalusing Township, Bradford County, Pennsylvania.

• Compressor Station 321—Approximately 10,310 horsepower (hp) of additional compression would be installed at the existing compressor station in Clifford Township, Susquehanna County, Pennsylvania. An inlet gas filter-separator, a blowdown silencer, and a relief valve would also be installed.

• Compressor Station 323—Approximately 10,310 hp of additional compression would be installed at the existing compressor station in Lackawaxen Township, Pike County, Pennsylvania. An existing compressor unit would be restaged, unit piping would be modified, and an inlet gas filter-separator, a blowdown silencer, and a relief valve would also be installed.

• Compressor Station 325—An inlet gas filter-separator, a blowdown silencer, and a relief valve would be installed at the existing compressor station in Wantage Township, Sussex County, New Jersey.

3. Construction or modification of other aboveground facilities including one meter station, two pig ² receivers, three mainline block valves, and other appurtenant facilities.

² A pig is a tool that is inserted into and moves through the pipeline, and can be used to clean and/or dry the pipeline, for internal inspection, or other purposes.

The general location of the project facilities is shown in appendix 1.³

³ The appendices referenced in this notice are not being printed in the Federal Register. Copies of appendices were sent to all those receiving this notice in the mail and are available at http://www.ferc.gov using the link called “eLibrary” or from the Commission's Public Reference Room, 888 First Street, NE., Washington, DC 20426, or call (202) 502-8371. For instructions on connecting to eLibrary, refer to the last page of this notice.

Land Requirements for Construction

TGP is still in the planning phase for the Northeast Upgrade Project, and workspace requirements have not been finalized at this time. As currently planned, construction would disturb approximately 638 acres of land for the aboveground facilities and the pipeline. Following construction, about 112 acres would be maintained for permanent operation of the project facilities. The remaining acreage would be restored and allowed to revert to former uses. As planned, the new pipeline loops would primarily be installed adjacent to TGP's existing pipeline system.

The EA Process

The National Environmental Policy Act (NEPA) requires the Commission to take into account the environmental impacts that could result from an action whenever it considers the issuance of a Certificate of Public Convenience and Necessity. NEPA also requires us ⁴ to discover and address concerns the public may have about proposals. This process is referred to as scoping. The main goal of the scoping process is to focus the analysis in the EA on the important environmental issues. By this notice, the Commission requests public comments on the scope of the issues to address in the EA. All comments received will be considered during the preparation of the EA.

⁴ “Us,” “we,” and “our” refer to the environmental staff of the Commission's Office of Energy Projects.

In the EA we will discuss impacts that could occur as a result of the construction and operation of the planned project under these general headings:

• Geology and soils;

• Water resources, fisheries, and wetlands;

• Vegetation, wildlife, and endangered and threatened species;

• Cultural resources;

• Land use and cumulative impacts;

• Air quality and noise; and

• Public safety.

We will also evaluate reasonable alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before an application is filed with the FERC. As part of our pre-filing review, we have begun to contact some Federal and state agencies to discuss their involvement in the scoping process and the preparation of the EA.

Our independent analysis of the issues will be presented in the EA. The EA will be placed in the public record and, depending on the comments received during the scoping process, may be published and distributed to the public. A comment period will be allotted if the EA is published for review. We will consider all comments on the EA before we make our recommendations to the Commission. To ensure your comments are considered, please carefully follow the instructions in the Public Participation section beginning on page 6.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice.

Consultations Under Section 106 of the National Historic Preservation Act

In accordance with the Advisory Council on Historic Preservation's implementing regulations for section 106 of the National Historic Preservation Act, we are using this notice to initiate consultation with applicable State Historic Preservation Offices (SHPO), and to solicit their views and those of other government agencies, interested Indian tribes, and the public on the project's potential effects on historic properties.⁵ We will define the project-specific Area of Potential Effects (APE) in consultation with the SHPOs as the project is further developed. On natural gas facility projects, the APE at a minimum encompasses all areas subject to ground disturbance (examples include construction right-of-way, contractor/pipe storage yards, compressor stations, and access roads). Our EA for this project will document our findings on the impacts on historic properties and summarize the status of consultations under section 106.

⁵ The Advisory Council on Historic Preservation's regulations are at Title 36 of the Code of Federal Regulations, part 800. Historic properties are defined in those regulations as any prehistoric or historic district, site, building, structure, or object included in or eligible for inclusion in the National Register for Historic Places.

Currently Identified Environmental Issues

We have already identified several issues that we think deserve attention based on a preliminary review of the planned facilities and the environmental information provided by TGP. This preliminary list of issues may be changed based on your comments and our analysis:

• Route alternatives on and near the Delaware Water Gap National Recreation Area in Pike County, Pennsylvania and Sussex County, New Jersey;

• Crossing the Appalachian Trail in Sussex County, New Jersey;

• Crossing the Susquehanna River in Bradford County, Pennsylvania; and

• Crossing the New Jersey Highlands in Passaic and Bergen Counties, New Jersey.

Public Participation

You can make a difference by providing us with your specific comments or concerns about the project. Your comments should focus on the potential environmental effects, reasonable alternatives, and measures to avoid or lessen environmental impacts. The more specific your comments, the more useful they will be. To ensure that your comments are timely and properly recorded, please send your comments so that they will be received in Washington, DC on or before November 12, 2010.

For your convenience, there are four methods you can use to submit your comments to the Commission. In all instances, please reference the project docket number (PF10-23-000) with your submission. The Commission encourages electronic filing of comments and has expert eFiling staff available to assist you at (202) 502-8258 or efiling@ferc.gov.

1. You may file your comments electronically by using the eComment feature, which is located on the Commission's Web site at http://www.ferc.gov under the link to Documents and Filings. An eComment is an easy method for interested persons to submit brief, text-only comments on a project;

2. You may file your comments electronically by using the eFiling feature, which is located on the Commission's Web site at http://www.ferc.gov under the link to Documents and Filings. With eFiling, you can provide comments in a variety of formats by attaching them as a file with your submission. New eFiling users must first create an account by clicking on “eRegister.” You will be asked to select the type of filing you are making. A comment on a particular project is considered a “Comment on a Filing”;

3. You may attend and provide either oral or written comments at a public scoping meeting. A transcript of each meeting will be made so that your comments will be accurately recorded and included in the public record; or

4. You may file a paper copy of your comments at the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

If the EA is published for distribution, copies will be sent to the environmental mailing list for public review and comment. If you would prefer to receive a paper copy of the document instead of the CD version, or would like to remove your name from the mailing list, please return the attached Information Request (appendix 2).

Becoming an Intervenor

Once TGP files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site. Please note that the Commission will not accept requests for intervenor status at this time. You must wait until a formal application for the project is filed with the Commission.

Additional Information

Additional information about the project is available from the Commission's Office of External Affairs, at (866) 208-FERC, or on the FERC Web site (http://www.ferc.gov) using the eLibrary link. Click on the eLibrary link, click on “General Search” and enter the docket number, excluding the last three digits in the Docket Number field (i.e., PF10-23). Be sure you have selected an appropriate date range. For assistance, please contact FERC Online Support at FercOnlineSupport@ferc.gov or toll free at (866) 208-3676, or for TTY, contact (202) 502-8659. The eLibrary link also provides access to the text of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

Finally, public meetings or site visits will be posted on the Commission's calendar located at http://www.ferc.gov/EventCalendar/EventsList.aspx along with other related information.

Kimberly D. Bose,
Secretary.

[FR Doc. 2010-26241 Filed 10-18-10; 8:45 am]

BILLING CODE 6717-01-P